DEPARTMENT OF JUSTICE

Bureau of Justice Statistics

[OJP(BJS)-1286]

National Incident Based Reporting System (NIBRS) Implementation Program

AGENCY: Office of Justice Programs, Bureau of Justice Statistics, Justice.

ACTION: Solicitation for award of cooperative agreements.

SUMMARY: The purpose of this notice is to announce a public solicitation to make awards to states to provide funding to jurisdictions for implementing the National Incident Based Reporting System (NIBRS).

DATES: Proposals must be received by 5:00 p.m. ET on or before Monday, July 31, 2000.

ADDRESSES: Proposals should be mailed to: Application Coordinator, Bureau of Justice Statistics, Room 2406, 810 7th Street, NW., Washington, DC 20531, (202) 616-3497 [This is not a toll-free number].

FOR FURTHER INFORMATION CONTACT: Charles R. Kindermann, Ph.D., Senior Statistician, Bureau of Justice Statistics, (202) 616-3489, or Carol G. Kaplan, Chief, Criminal History Improvement Programs, (202) 307-0759 [This is not a toll-free number].

SUPPLEMENTARY INFORMATION:

Background

The Crime Identification Technology Act (CITA) provides funding to states (in conjunction with units of Local government) and tribes that want to participate in the FBI's new approach to uniform crime reporting, the National Incident-Based Reporting System (NIBRS). NIBRS moves beyond aggregate statistics and raw counts of crimes and arrests that comprise the summary UCR program to individual records for each reported crime incident and its associated arrest. NIBRS looks at detailed offense, offender, victim, property, and arrest data. In addition to changing the fundamental reporting structure underlying crime and arrest information, NIBRS collects offense and arrest data on 22 crime categories, spanning 46 offenses (as compared to the 8 UCR index offenses), and additional offenses for which only arrest information is reported. The requirements for compatibility with NIBRS can be found at http://www.fbi.gov/publish/nibrs/nibrs.htm:

Objectives

The purpose of this solicitation is to make awards to states to provide funding to jurisdictions for implementing the National Incident Based Reporting System (NIBRS). The amount available under the FY 2000 appropriation is $10 million.

Type of Assistance

Assistance will be made available in the form of cooperative agreements.

Statutory Authority

The awards made pursuant to this solicitation will be funded by the Bureau of Justice Statistics consistent with the provisions of 42 U.S.C. 3732 and the Crime Identification Technology Act of 1998 (CITA), 42 U.S.C. 14601. A complete description of requirements and programs funded under CITA is available at the OJP CITA website http://www.ojp.usdoj.gov/cita.

Eligibility Requirements

The NIBRS awards will be made to states applying on behalf of one or more cities or counties in the state, regardless of whether the state maintains a UCR program. Within the state, requests may be made on behalf of one or more jurisdictions or a collaboration of jurisdictions. In addition, a state can apply for funding to be used at the state level, provided that the state also applies for funds on behalf of a city or county jurisdiction.

BJS will select the jurisdictions to be funded. The program will be competitive between and within states and requests for state funding will compete against requests for funding for cities and counties. Because of limited funding, not every state will receive an award, and the grants may not cover the entire costs of the conversion to NIBRS.

All awards will be made to the state which will transfer funds to the selected jurisdictions as appropriate. The proposal must present a separate budget for each jurisdiction or collaboration and describe procedures for transfer of funds. Applications requesting funds for more than one jurisdiction must include an approval signature from the appropriate official in each jurisdiction proposed for funding.

States interested in obtaining funding for NIBRS implementation under this solicitation, should contact either their state ASUCRP representative on their website-www.asucrp.org or the state agency designated by the Governor to apply for Federal NIBRS funds. Applications should include a cover memo from the ASUCRP member. If the applicant agency differs from the ASUCRP member's agency, the selection of the applicant agency should be explained. Applications should be submitted by July 31, 2000.

Total funds available for all recipients within a state cannot exceed $1 million and no more than three jurisdictions or collaborations can be proposed for funding. Since not all proposals submitted by a state may be approved for funding, the total requested in the application may exceed the $1 million limit on funds available for the state overall.

CITA requires that states receiving funds appropriated under that Act certify support for the FBI's National Instant Criminal Background Check System (NICS) and that a statewide strategy for information sharing is in effect or will be initiated. BJS also funds the National Criminal History Improvement Program (NCHIP) with CITA funds, and applicant states should check with BJS to determine whether the state has already certified to meeting these requirements. CITA also requires that fund recipients provide a 10% “match” of the total project cost (see below for additional information on match requirements).

Scope of Work

The object of this solicitation is to make awards to states to provide funding to jurisdictions for implementing the National Incident-Based Reporting System (NIBRS) in order to improve the quality of crime statistics in the country. Proposals should describe in appropriate detail the tasks and activities necessary for the implementation of NIBRS in the proposed jurisdictions. Resumes of the proposed consultants and firms to be involved with the project should be enclosed with the proposal. The application should include detailed timetable for each task to be funded under the project and for full implementation of NIBRS if this extends beyond the proposed funding period. The timetable can contain milestones beyond the one year grant period as long as they do not assume additional BJS funding. Since all proposed jurisdictions may not be selected for funding, the proposal should contain clearly separate descriptions of tasks and fund requests for each proposed jurisdiction.

Applications should also describe the status of NIBRS in the applicant state. If the state system is not NIBRS compliant, the proposal must explain how the proposed jurisdictions or collaborations will have NIBRS compliant record management systems.

The application should demonstrate familiarity with current activities relating to NIBRS implementation, including the ongoing SEARCH/BJS program demonstrating operational values of NIBRS (www.search.org/nibrs/default.asp), and the current efforts by the Police Executive Research Forum (PERF) (www.police forum.org), the Justice Research and Statistics Association (JRSA) (www.jrsa.org/ibrrc/index/html) and the National Institute of Justice (NIJ) (www.ojp.usdoj.gov/nij/pdf/compasscfp.pdf). Where applicable, the application should discuss the relationship between the proposed project activities and these other activities.

NIBRS awarded funds may be used to cover costs of: system enhancements or other modifications which will enable NIBRS compliant reporting; developing and providing training in NIBRS compliant reporting and analysis procedures (including salary and related costs for persons developing and providing the training); developing, implementing, or licensing of software which supports NIBRS compliant data collection, reporting, and analysis; and, attendance at conferences or other related activities that aid in the process of implementing NIBRS. Funds many not be used for equipment purchase or to cover salaries or overtime for persons attending NIBRS training sessions or meetings. Where a state is applying for funds to be transferred to a local jurisdiction(s), an amount equal to up to 5% of the amount to be transferred may be requested by the state to cover administrative costs.

The application should also include a description of activities, with accompanying fiscal implications, which will serve as the match for activities funded under the NIBRS award. BJS will consider all efforts which are designed to further the establishment of NIBRS compatible reporting to be allowable in support of the 10% match requirement.

Since this award program is authorized and funded under the Crime Identification Technology Act of 1998, the program will be coordinated with other OJP efforts funded under CITA. Additionally, to encourage coordination and information sharing among criminal justice systems, all OJP awards supporting information technology development include a special condition which requires that a description of the project be submitted to the State Information Technology Point of Contact, if one has been designated. The name and address can be obtained at 1-800-421-6770 or at the OJP webpage (http://www.ojp.usdoj.gov). A copy of the correspondence should be either submitted with the application or submitted prior to fund drawdown. The intent of this condition is to facilitate communication within the State and there is no requirement that the point of contact concur with the information technology project.

Award Procedures

Applications will be reviewed competitively by a panel comprised of members selected by BJS. The panel will make recommendations to the Director, BJS. Final authority to enter into a cooperative agreement is reserved for the Director, BJS, or his designee.

Applicants will be evaluated on the basis of:

1. The jurisdictions commitment to implementing NIBRS

2. Knowledge of issues related to the Uniform Crime Reports (UCR) and the National Incident Based Reporting System (NIBRS), including familiarity with NIBRS related material contained in websites maintained by the FBI, BJS, JRSA, and NIJ.

3. The jurisdiction's current level of automation and plans for replacing the record management systems if necessary.

4. The likelihood that the jurisdiction will implement NIBRS in a timely manner.

5. Availability of qualified professional and support staff and suitable equipment for project activities.

6. Demonstrated fiscal, management and organizational capability.

7. Reasonableness of estimated costs for the total project and for individual cost categories

Application and Awards Process

An original and five (5) copies of a full proposal must be submitted with SF 424 (Rev. 1988), Application for Federal Assistance, as the cover sheet. Proposals must be accompanied by OJP Form 7150/1, Budget Detail Worksheet; OJP Form 4000/3 (Rev. 1-93), Assurances; OJP Form 4061/6, Certifications Regarding Lobbying; Debarment, Suspension and Other Responsibility Matters; and Drug-Free Workplace Requirements; and OJP Form 7120-1 (Rev. 1-93), Accounting System and Financial Capability Questionnaire (to be submitted by applicants who have not previously received Federal funds from the Office of Justice Programs). If appropriate, applicants must complete and submit Standard Form LLL, Disclosure of Lobbying Activities. All applicants must sign Certified Assurances that they are in compliance with the Federal laws and regulations which prohibit discrimination in any program or activity the receives Federal funds. To obtain appropriate forms, contact Joyce Stanford, BJS Administrative Assistant, at (202) 616-3497.

The application should cover a 1-year period with information provided for completion of the entire project. Proposals must include a program narrative, detailed budget, and budget narrative. The program narrative shall describe activities as stated in the scope of work and address the evaluation criteria. The detailed budget must provide costs including salaries of staff involved in the project and portion of those salaries to be paid from the award; fringe benefits paid to each staff person; travel costs; supplies required to complete the project; and, other allowable costs. The source and amount of matching funds should also be included in the detailed budget. The budget narrative should closely follow the content of the detailed budget. The narrative should also relate the items budgeted to the project activities and should provide a justification and explanation for the budgeted items. Refer to the aforementioned timetable when developing the program narrative and budget information.

Dated: June 14, 2000.
Jan M. Chaiken,
Director, Bureau of Justice Statistics.

[FR Doc. 00-15387 Filed 6-16-00; 8:45 am]

BILLING CODE 4410-18-P